DEPARTMENT OF HEALTH AND HUMAN SERVICES

Meeting of the Chronic Fatigue Syndrome Advisory Committee

AGENCY: Office of the Assistant Secretary for Health, Office of the Secretary, Department of Health and Human Services.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Wednesday, June 13, 2012 and Thursday, June 14, 2012 from 9:00 a.m. until 5:00 p.m.

ADDRESSES: Department of Health and Human Services; Hubert H. Humphrey Building; 200 Independence Avenue SW., Room 800, Washington, DC 20201. For a map and directions to the Hubert H. Humphrey building, please visit http://www.hhs.gov/about/hhhmap.html.

FOR FURTHER INFORMATION CONTACT: Nancy C. Lee, M.D., Designated Federal Officer, Chronic Fatigue Syndrome Advisory Committee, Department of Health and Human Services, 200 Independence Avenue SW., Room 712E, Washington, DC 20201. Any questions about meeting registration or public comment sign-up should be directed to CFSAC:JUNE2012@seamoncorporation.com. Direct other inquiries to cfsac@hhs.gov.

SUPPLEMENTARY INFORMATION: CFSAC was established on September 5, 2002 to advise, consult with, and make recommendations to the Secretary through the Assistant Secretary for Health, on a broad range of topics including: (1) The current state of knowledge and research on the epidemiology, etiologies, biomarkers, treatment, and risk factors relating to chronic fatigue syndrome (CFS), to identify potential opportunities in these areas; (2) the impact and implications of current and proposed diagnosis and treatment methods for CFS; (3) development and implementation of programs to inform the public, health care professionals, and the biomedical research communities about CFS; and (4) strategies to improve the quality of life for CFS patients.

The agenda for this meeting is being developed and will be posted on the CFSAC Web site, http://www.hhs.gov/advcomcfs when finalized. The meeting will be live-video streamed at www.HHS.gov/Live and archived through the CFSAC Web site: www.hhs.gov/advocomcfs. Listening-only audio via telephone will be available on both days. Call-in information will be posted on the CFSAC Web site.

Public attendance is welcome, but due to limited space advance registration is required. Individuals who plan to attend should register at the following link by June 8, 2012: http://www.blsmeetings.net/CFSACJune2012. Members of the media will also need to register. All attendees will be required to show government-issued picture identification for entry into the federal building. Attendees will receive a wrist band that must be worn the entire time. Security requires all non-federal employees to be escorted the entire time they are in the building. Upon leaving the building for any reason all persons will be required to follow the security steps mentioned above and receive a new wrist band.

Members of the public will have the opportunity to provide public comments at the meeting or via telephone. International calls cannot be accommodated. A separate sign-up process for requesting time for public comment must be completed by June 6, 2012 at the following link: http://www.blsmeetings.net/CFSACPublicComment. Individuals wishing to provide public comment must also submit an electronic copy of their testimony in advance to: CFSACJUNE2012@seamoncorporation.com by Wednesday, June 6, 2012. We require that you email a document (5 pages or less) in MS WORD format that is single-spaced, 12 point font. Note: PDF files, hand-written notes and photographs will not be accepted. Requests for public comment and written testimony will not be accepted through the CFSAC mailbox. Also, the CFSAC mailbox will not respond to questions about specific public comment requests.

All public comment becomes part of the public record, available for viewing and posted on the CFSAC Web site. All testimony and printed material submitted for the meeting are part of the official meeting record and will be uploaded to the CFSAC Web site and made available for public inspection. Testimony and materials submitted should not include sensitive personal information, such as social security number, birthdates, driver's license number, state identification or foreign country equivalent, passport number, financial account number, or credit or debit card number. Sensitive health information, or non-public corporate or trade association information, such as trade secrets or other proprietary information should be excluded from any materials submitted. If you wish to remain anonymous the document must specify this.

We will confirm your time for public comment via email by June 11, 2012. Each speaker will be limited to five minutes per speaker; no exceptions will be made. We will give priority to individuals who have not provided public comment within the previous year.

Persons who wish to distribute printed materials to CFSAC members should submit one copy to Designated Federal Officer at cfsac@hhs.gov, prior to Wednesday, June 6, 2012. Submissions are limited to five typewritten pages.

Dated: May 17, 2012.
Nancy C. Lee,
Designated Federal Officer, Chronic Fatigue Syndrome Advisory Committee.

[FR Doc. 2012-13097 Filed 5-29-12; 8:45 am]

BILLING CODE 4150-42-P